DEPARTMENT OF THE INTERIOR

Fish and Wildlife Service

[FWS-R6-ES-2011-N101; 60120-1113-0000; C4]

Endangered and Threatened Wildlife and Plants; 5-Year Status Reviews of 12 Species in the Mountain-Prairie Region

AGENCY: Fish and Wildlife Service, Interior.

ACTION: Notice of initiation of reviews; request for information.

SUMMARY: We, the U.S. Fish and Wildlife Service, are initiating 5-year status reviews under the Endangered Species Act of 1973, as amended (Act), of 2 animal and 10 plant species. We are requesting any information that has become available since our original listing of each of these species. Based on review results, we will determine whether we should change the listing status of any of these species.

DATES: To ensure consideration, please send your written information by August 19, 2011.

ADDRESSES: For how and where to send comments or information, see “VIII. Contacts.”

FOR FURTHER INFORMATION CONTACT: To request information, see “VIII. Contacts.” Individuals who are hearing impaired or speech impaired may call the Federal Relay Service at (800) 877-8337 for TTY (telephone typewriter or teletypewriter) assistance.

SUPPLEMENTARY INFORMATION: We are initiating 5-year status reviews under the Act of 2 animal and 10 plant species: Autumn buttercup (Ranunculus acriformis var. aestivalis), clay phacelia (Phacelia argillacea), Colorado butterfly plant (Gaura neomexicana ssp. coloradensis), desert yellowhead (Yermo xanthocephalus), dwarf bear-poppy (Arctomecon humilis), Last Chance townsendia (Townsendia aprica), Neosho madtom (Noturus placidus), Penland alpine fen mustard (Eutrema penlandii), Salt Creek tiger beetle (Cicindela nevadica lincolniana), San Rafael cactus (Pediocactus despainii), Welsh's milkweed (Asclepias welshii), and Winkler cactus (Pediocactus winkleri) species.

I. Why do we conduct 5-year reviews?

We conduct 5-year status reviews to ensure that our classification of each species on the Lists of Endangered and Threatened Wildlife and Plants as threatened or endangered is accurate. A 5-year review assesses the best scientific and commercial data available at the time of the review. We are requesting any information that has become available since our original listing of the species under review. Based on review results, we will determine whether we should change the listing status of any of these species.

Under the Act, we maintain Lists of Endangered and Threatened Wildlife and Plants (which we collectively refer to as the List) in the Code of Federal Regulations (CFR) at 50 CFR 17.11 (for animals) and 17.12 (for plants). Section 4(c)(2)(A) of the Act requires us to review each listed species' status at least once every 5 years. Then, under section 4(c)(2)(B), we determine whether to remove any species from the List (delist), to reclassify it from endangered to threatened, or to reclassify it from threatened to endangered. Any change in Federal classification requires a separate rulemaking process.

In classifying, we use the following definitions, from 50 CFR 424.02:

A. Species includes any species or subspecies of fish, wildlife, or plant, and any distinct population segment of any species of vertebrate, that interbreeds when mature;

B. Endangered species means any species that is in danger of extinction throughout all or a significant portion of its range; and

C. Threatened species means any species that is likely to become an endangered species within the foreseeable future throughout all or a significant portion of its range.

We must support delisting by the best scientific and commercial data available, and only consider delisting if data substantiate that the species is neither endangered nor threatened for one or more of the following reasons (50 CFR 424.11(d)):

A. The species is considered extinct;

B. The species is considered to be recovered; or

C. The original data available when the species was listed, or the interpretation of data, were in error.

Our regulations at 50 CFR 424.21 require that we publish a notice in the Federal Register announcing the species we are reviewing.

II. What species are under review?

This notice announces our active 5-year status reviews of the species in Table 1.

Table 1—Current Listing Status of Species Under 5-Year Status Review
Common name | Scientific name | Status | Where listed | Final listing rule publication date & citation
ANIMALS
Beetle, Salt Creek Tiger | Cicindela nevadica lincolniana | Endangered | U.S.A. (NE) | October 6, 2005 (70 FR 58335).
Madtom, Neosho | Noturus placidus | Threatened | U.S.A. (KS, MO, OK) | May 22, 1990 (55 FR 21148).
PLANTS
Autumn buttercup | Ranunculus acriformis var. aestivalis | Endangered | U.S.A. (UT) | July 21, 1989 (54 FR 30550).
Clay phacelia | Phacelia argillacea | Endangered | U.S.A. (UT) | September 28, 1978 (43 FR 44810).
Colorado butterfly plant | Gaura Neomexicana ssp. coloradensis | Threatened | U.S.A. (WY, NE, CO) | October 18, 2000 (65 FR 62302).
Desert yellowhead | Yermo xanthocephalus | Threatened | U.S.A. (WY) | March 14, 2002 (67 FR 11442).
Dwarf bear-poppy | Arctomecon humilis | Endangered | U.S.A. (UT) | November 6, 1979 (44 FR 64250).
Last Chance townsendia | Townsendia aprica | Threatened | U.S.A. (UT) | August 21, 1985 (50 FR 33734).
Penland alpine fen mustard | Eutrema penlandii | Threatened | U.S.A. (CO) | July 28, 1993 (58 FR 40539).
San Rafael cactus | Pediocactus despainii | Endangered | U.S.A. (UT) | September 16, 1987 (52 FR 34914).
Welsh's milkweed | Asclepias welshii | Threatened | U.S.A. (AZ, UT) | October 28, 1987 (52 FR 41435).
Winkler cactus | Pediocactus winkleri | Threatened | U.S.A. (UT) | August 20, 1998 (63 FR 44587).

III. What do we consider in our review?

We consider all new information available at the time we conduct a 5-year status review. We consider the best scientific and commercial data that has become available since our current listing determination or most recent status review, such as:

A. Species biology, including but not limited to population trends, distribution, abundance, demographics, and genetics;

B. Habitat conditions, including but not limited to amount, distribution, and suitability;

C. Conservation measures that have been implemented that benefit the species;

D. Threat status and trends (see five factors under heading “IV. How do we determine whether a species is endangered or threatened?”); and

E. Other new information, data, or corrections, including but not limited to taxonomic or nomenclatural changes, identification of erroneous information contained in the List, and improved analytical methods.

IV. How do we determine whether a species is endangered or threatened?

Section 4(a)(1) of the Act requires that we determine whether a species is endangered or threatened based on one or more of the five following factors:

A. The present or threatened destruction, modification, or curtailment of its habitat or range;

B. Overutilization for commercial, recreational, scientific, or educational purposes;

C. Disease or predation;

D. The inadequacy of existing regulatory mechanisms; or

E. Other natural or manmade factors affecting its continued existence.

Under section 4(b)(1) of the Act, we must base our assessment of these factors solely on the best scientific and commercial data available.

V. What could happen as a result of our review?

For each species under review, if we find new information that indicates a change in classification may be warranted, we may propose a new rule that could do one of the following:

A. Reclassify the species from threatened to endangered (uplist);

B. Reclassify the species from endangered to threatened (downlist); or

C. Remove the species from the List (delist).

If we determine that a change in classification is not warranted, then the species remains on the List under its current status.

VI. Request for New Information

To ensure that a 5-year review is complete and based on the best available scientific and commercial information, we request new information from all sources. See “III. What do we consider in our review?” for specific criteria. If you submit information, support it with documentation such as maps, bibliographic references, methods used to gather and analyze the data, and/or copies of any pertinent publications, reports, or letters by knowledgeable sources.

Submit your comments and materials to the appropriate Fish and Wildlife Office listed under “VIII. Contacts.”

VII. Public Availability of Comments

Before including your address, phone number, e-mail address, or other personal identifying information in your comment, you should be aware that your entire comment—including your personal identifying information—may be made publicly available at any time. While you can ask us in your comment to withhold your personal identifying information from public review, we cannot guarantee that we will be able to do so. Comments and materials received will be available for public inspection, by appointment, during normal business hours at the offices where the comments are submitted.

VIII. Contacts

Send your comments and information on the following species, as well as requests for information, to the corresponding contacts/addresses included in Table 2. You may view information we receive in response to this notice, as well as other documentation in our files, at the following locations by appointment, during normal business hours.

Table 2—Contact Information for Species Under 5-Year Status Review
Species | Contact person, phone, e-mail | Contact address
Neosho Madtom | Mike LeValley, Kansas Field Supervisor; (785) 539-3474; e-mail Mike_LeValley@fws.gov | Kansas Field Office, U.S. Fish & Wildlife Service, Attention: Neosho Madtom 5-Year Review, 2609 Anderson Avenue, Manhattan, KS 66502.
Salt Creek Tiger Beetle | Michael George, Nebraska Field Supervisor; (308) 382-6468; e-mail Mike_George@fws.gov | Nebraska Field Office, U.S. Fish & Wildlife Service, Attention: Salt Creek Tiger Beetle 5-Year Review, 203 West Second, 2nd Floor, Federal Building, Grand Island, NE 68801.
Autumn buttercup, Clay phacelia, Dwarf bear-poppy, Last Chance townsendia, San Rafael cactus, Winkler cactus, Welsh's milkweed | Larry Crist, Utah Field Supervisor; (801) 975-3330; e-mail Larry_Crist@fws.gov | Utah Field Office, U.S. Fish & Wildlife Service, Attention: 5-Year Review, 2369 West Orton Circle, Suite 50, West Valley City, UT 84119.
Colorado butterfly plant, Desert yellowhead | Mark Sattelberg, Wyoming Field Supervisor; (307) 772-2374; e-mail Mark_Sattelberg@fws.gov | Wyoming Field Office, U.S. Fish & Wildlife Service, Attention: 5-Year Review, 5353 Yellowstone Road, Suite 308A, Cheyenne, WY 82009.
Penland alpine fen mustard | Al Pfister, Western Colorado Supervisor; (970) 243-2778; e-mail Al_Pfister@fws.gov | Western Colorado Field Office, U.S. Fish & Wildlife Service, Attention: 5-Year Review, 764 Horizon Drive, Building B, Grand Junction, CO 81506-3946.

IX. Authority

We publish this notice under the authority of the Endangered Species Act of 1973, as amended (16 U.S.C. 1531 et seq.).

Dated: May 25, 2011.
Noreen E. Walsh,
Deputy Regional Director, Denver, Colorado.

[FR Doc. 2011-15183 Filed 6-17-11; 8:45 am]

BILLING CODE 4310-55-P